DEPARTMENT OF THE INTERIOR

Fish and Wildlife Service

Draft Revised Recovery Plan for the Sihek or Guam Micronesian Kingfisher (Halcyon cinnamomina cinnamomina)

AGENCY: U.S. Fish and Wildlife Service, Interior.

ACTION: Notice of document availability for review and comment.

SUMMARY: The U.S. Fish and Wildlife Service (“we”), announces the availability of the Draft Revised Recovery Plan for the Sihek or Guam Micronesian Kingfisher (Halcyon cinnamomina cinnamomina) for public review and comment.

DATES: Comments on the draft revised recovery plan must be received on or before June 28, 2004.

ADDRESSES: Copies of the draft revised recovery plan are available for inspection, by appointment, during normal business hours at the following location: U.S. Fish and Wildlife Service, Pacific Islands Fish and Wildlife Office, 300 Ala Moana Boulevard, Room 3-122, Honolulu, Hawaii 96850 (phone: (808) 792-9400). Requests for copies of the draft revised recovery plan and written comments and materials regarding this plan should be addressed to the Field Supervisor, Ecological Services, at the above Honolulu address. An electronic copy of the draft revised recovery plan is also available at: http://endangered.fws.gov/recovery/index.html#plans.

FOR FURTHER INFORMATION CONTACT: Fred Amidon, Fish and Wildlife Biologist, at the above Honolulu address.

SUPPLEMENTARY INFORMATION:

Background

Recovery of endangered or threatened animals and plants is a primary goal of our endangered species program and the Endangered Species Act (Act) 16 U.S.C. 1531 et seq.). Recovery means improvement of the status of listed species to the point at which listing is no longer appropriate under the criteria set out in section 4(a)(1) of the Act. Recovery plans describe actions considered necessary for the conservation of the species, establish criteria for downlisting or delisting listed species, and estimate time and cost for implementing the measures needed for recovery.

The Act requires the development of recovery plans for listed species unless such a plan would not promote the conservation of a particular species. Section 4(f) of the Act requires that public notice and an opportunity for public review and comment be provided during recovery plan development. We will consider all information presented during the public comment period prior to approval of each new or revised recovery plan. Substantive technical comments may result in changes to the recovery plan. Substantive comments regarding recovery plan implementation may not necessarily result in changes to the recovery plan, but will be forwarded to appropriate Federal or other entities so that they can take these comments into account during the course of implementing recovery actions. Individual responses to comments will not be provided.

The sihek is federally listed as endangered (49 FR 33881) and is also listed as endangered by the Territory of Guam. Sihek are forest kingfishers endemic to the island of Guam in the Mariana Archipelago. Sihek were last observed on Guam in 1988 and are now believed to be extirpated from the wild. Currently, sihek are represented by a captive population of 60 individuals in 11 zoological institutions. Prior to their extirpation from the island, sihek utilized a wide variety of forest habitats. Mature, closed canopy forests with large, standing dead trees that provide appropriate nest sites for the cavity-nesting sihek are important for reproductive activities. Diverse vegetative structure that provides a variety of invertebrate and vertebrate prey as well as an open understory or edge with exposed perches for foraging is also an important component of sihek habitat.

Habitat degradation and loss, human persecution, contaminants, and introduced species such as disease organisms, cats (Felis cattus), rats (Rattus spp.), black drongos (Dicrurus macrocercus), monitor lizards (Varanus indicus), and brown treesnakes (Boiga irregularis) have all been suggested as factors in the population decline of this subspecies. However, predation by the brown treesnake is believed to have been the overriding factor in the extirpation of sihek. Factors that continue to prevent the recovery of the sihek include poor reproductive success, high mortality in the captive population, and the continued presence of brown treesnakes on Guam. Recovery actions in this draft revised plan are designed to address threats to the sihek in order to achieve the recovery objectives of downlisting to threatened status and eventual delisting.

To prevent the extinction of the sihek, the highest priority recovery tasks are to increase the size of the captive population, control brown treesnakes on Guam, and reestablish sihek in the wild on Guam. Increasing the captive population will be accomplished by establishing a captive propagation program for sihek on Guam, increasing reproductive success, and decreasing juvenile and adult mortality. Reintroduction to Guam requires a thorough reintroduction program and extensive predator control efforts, especially brown treesnake control. Once sihek have been reestablished in the wild, expanding predator control efforts to additional areas, habitat protection and restoration, and monitoring for additional threats to the subspecies would receive increased focus.

The goal of this plan is to reestablish sihek in at least 2 stable or increasing subpopulations of 1,000 adults each, 1 in northern Guam and 1 in southern Guam, in conjunction with habitat protection and predator control measures, as well as long-term monitoring to ensure the effectiveness of management actions.

Public Comments Solicited

We solicit written comments on the draft revised recovery plan described. All comments received by the date specified above will be considered in developing a final revised recovery plan.

Authority: The authority for this action is section 4(f) of the Endangered Species Act, 16 U.S.C. 1533(f).

Dated: March 5, 2004.
David J. Wesley,
Regional Director, Region 1, U.S. Fish and Wildlife Service.

[FR Doc. 04-9585 Filed 4-27-04; 8:45 am]

BILLING CODE 4310-55-P